DEPARTMENT OF COMMERCE

National Oceanic and Atmospheric Administration

U.S. Integrated Ocean Observing System (IOOS®) Advisory Committee Public Meeting

AGENCY: U.S. Integrated Ocean Observing System (IOOS®), National Ocean Service (NOS), National Oceanic and Atmospheric Administration (NOAA), Department of Commerce (DOC)

ACTION: Notice of open meeting.

SUMMARY: Notice is hereby given of a hybrid meeting of the U. S. Integrated Ocean Observing System (IOOS®) Advisory Committee (Committee). The meeting is open to the public and an opportunity for oral and written comments will be provided.

DATES: The meeting will be held both virtually and in person from July 24, 2024 to July 25, 2024. Sessions will occur from 9 a.m. to 4:45 p.m. (EDT) on July 24, 2024 and from 9:30 a.m. to 5 p.m. (EDT) on July 25, 2024.

ADDRESSES: The meeting will be held at Pitch at the Wharf, 800 Maine Ave. SW, Washington, DC. To register for the meeting and/or submit public comments, use this link https://forms.gle/mHrygLRsc3GMFRPYA or email Laura.Gewain@noaa.gov. Registration is required. See SUPPLEMENTARY INFORMATION for instructions and other information about public participation.

FOR FURTHER INFORMATION CONTACT: Krisa Arzayus, Designated Federal Official, U.S. IOOS Advisory Committee, U.S. IOOS Program, Phone 240-533-9455; Email krisa.arzayus@noaa.gov or visit the U.S. IOOS Advisory Committee website at http://ioos.noaa.gov/community/u-s-ioos-advisory-committee/.

SUPPLEMENTARY INFORMATION: The Committee was established by the NOAA Administrator as directed by section 12304(d) of the Integrated Coastal and Ocean Observation System Act (the Act) as amended by section 103 of the Coordinated Ocean Observations and Research Act of 2020 (COORA) (Pub. L. 116-271, title I). 33 U.S.C. 3603(d). The Committee advises the NOAA Administrator and the Interagency Ocean Observation Committee (IOOC) on matters related to the responsibilities and authorities set forth in the Act and other appropriate matters as the Administrator, the Ocean Policy Committee described at 33 U.S.C. 3603(c)(1), and IOOC may refer to the Committee for review and advice. The charter and summaries of prior meetings can be found online at https://ioos.noaa.gov/community/u-s-ioos-advisory-committee/.

Matters To Be Considered

The meeting will focus on: (1) NOAA and IOOS budget, (2) engaging with NOAA leadership, (3) working session on Enterprise Excellence, and (4) new membership. The latest version of the agenda will be posted at http://ioos.noaa.gov/community/u-s-ioos-advisory-committee/. The times and the agenda topics described here are subject to change.

Public Comment Instructions

The meeting will be open to public participation (check agenda on website to confirm time). The Committee expects that public statements presented at its meetings will not be repetitive of previously submitted verbal or written statements. In general, each individual or group making a verbal presentation will be limited to a total time of three (3) minutes. Written comments should be received by the Designated Federal Official by July 16, 2024, to provide sufficient time for Committee review. Written comments received after July 16, 2024, will be distributed to the Committee, but may not be reviewed prior to the meeting date. To submit written comments, please fill out the brief form at https://forms.gle/mHrygLRsc3GMFRPYA or email your comments and the organization/company affiliation you represent to Laura Gewain, Laura.Gewain@noaa.gov. This NOAA public meeting will be recorded for use in preparation of minutes. If you have a public comment, you acknowledge you will be recorded and are aware you can opt out of the meeting. Participation in the meeting constitutes consent to the recording.

Special Accommodations

These meetings are physically accessible to people with disabilities. Requests for sign language interpretation or other auxiliary aids should be directed to Krisa Arzayus, Designated Federal Official by phone (240-533-9455) or email (Krisa.Arzayus@noaa.gov) or to Laura Gewain (Laura.Gewain@noaa.gov) by July 10, 2024.

Carl C. Gouldman,
Director, U. S. Integrated Ocean Observing System Office, National Ocean Service, National Oceanic and Atmospheric Administration.

[FR Doc. 2024-14527 Filed 7-1-24; 8:45 am]

BILLING CODE 3510-NE-P